DEPARTMENT OF HOMELAND SECURITY

Coast Guard

33 CFR Part 100

[Docket No. USCG-2008-0610]

Special Local Regulations for Marine Events; Port Huron to Mackinac Island Race

AGENCY: Coast Guard, DHS.

ACTION: Notice of enforcement of regulation.

SUMMARY: The Coast Guard will enforce the special local regulation for the Port Huron to Mackinac Island Race, July 12, 2008, at 11 a.m. to July 15, 2008, at 11:59 p.m. This action is necessary to safely control vessel movements in the vicinity of the race and provide for the safety of the general boating public and commercial shipping. During this period, no person or vessel may enter the regulated area without the permission of the Coast Guard Patrol Commander.

DATES: This rule is effective from July 12, 2008, at 11 a.m. through July 15, 2008, at 11:59 p.m.

FOR FURTHER INFORMATION CONTACT: Mr. Frank Jennings, Jr., Enforcement Branch, Ninth Coast Guard District, 1240 East 9th Street, Cleveland, OH at (216) 902-6095.

SUPPLEMENTARY INFORMATION: The Coast Guard will enforce the special local regulation for the annual Port Huron to Mackinac Race July 12, 2008 at 11 a.m. through July 15, 2008 at 11:59 p.m. The Special Local Regulations apply to the waters of the Black River, St. Clair River and lower Lake Huron from:

Latitude | Longitude
42[deg]58.8[min] N | 082[deg]26[min] W, to
42[deg]58.4[min] N | 082[deg]24.8[min] W, thence
northward along the International Boundary to
43[deg]02.8[min] N | 082[deg]23.8[min] W, to
43[deg]02.8[min] N | 082[deg]26.8[min] W, thence
southward along the U.S. shoreline to
42[deg]58.9[min] N | 082[deg]26[min] W, thence to
42[deg]58.8[min] N | 082[deg] 26[min] W.

In order to ensure the safety of spectators and participating vessels, the special local regulation will be in effect for the duration of the event. The Coast Guard will patrol the race area under the direction of a designated Coast Guard Patrol Commander. Vessels desiring to transit the regulated area may do so only with prior approval of the Coast Guard Patrol Commander (PATCOM) and when so directed by that officer. The PATCOM may be contacted on Channel 16 (156.8 MHZ) by the call sign “Coast Guard Patrol Commander.” Vessels will be operated at a no wake speed to reduce the wake to a minimum, and in a manner which will not endanger participants in the event or any other craft. The rules contained in the above two sentences shall not apply to participants in the event or vessels of the patrol operating in the performance of their assigned duties.

In the event this special local regulation affects shipping, commercial vessels may request permission from the PATCOM to transit the area of the event by hailing call sign “Coast Guard Patrol Commander” on Channel 16 (156.8 MHZ).

This notice is issued under the authority of 33 CFR Part 100.901 and 5 U.S.C. 552(a). If the District Commander, Captain of the Port or PATCOM determines that the regulated area need not be enforced for the full duration stated in this notice, he or she may use a Broadcast Notice to Mariners to grant general permission to enter the regulated area.

Dated: June 24, 2008.
David R. Callahan,
Captain, U.S. Coast Guard, Acting Commander, Ninth Coast Guard District.

[FR Doc. E8-15491 Filed 7-8-08; 8:45 am]

BILLING CODE 4910-15-P